NATIONAL SCIENCE FOUNDATION

Special Emphasis Panel in Advanced Networking and Infrastructure Research; Notice of Meetings

In accordance with the Federal Advisory Committee Act (Pub. L. 92-463, as amended), the National Science Foundation announces the following meetings of the Special Emphasis Panel in Advanced Networking and Infrastructure (1207):

1. Date/Time: November 7, 2000; 8:00 AM-5:00 PM.

Place: Room 220, National Science Foundation, 4201 Wilson Blvd., Arlington, VA.

2. Date/Time: November 13-14, 2000; 8:00 AM-5:00 PM.

Place: Room 1120, National Science Foundation, 4201 Wilson Blvd., Arlington, VA.

3. Date/Time: November 15, 2000; 8:00 AM-5:00 PM.

Place: Room 1120, National Science Foundation, 4201 Wilson Blvd., Arlington, VA.

4. Date/Time: November 21, 2000; 8:00 AM-5:00 PM.

Place: Room 1175, National Science Foundation, 4201 Wilson Blvd., Arlington, VA.

5. Date/Time: December 4-5, 2000; 8:00 AM-5:00 PM.

Place: Room 1150, National Science Foundation, 4201 Wilson Blvd., Arlington, VA.

6. Date/Time: December 6, 2000; 8:00 AM-5:00 PM.

Place: Room 220, National Science Foundation, 4201 Wilson Blvd., Arlington, VA.

Type of Meetings: Closed.

Contact Person: Karen Sollins, Division of Advanced Networking Infrastructure Research, Room 1175, National Science Foundation, 4201 Wilson Blvd., Arlington, VA 22230. Telephone (703) 292-8950.

Agenda: To review and evaluate proposals submitted to the Networking Research and Special Projects Programs as part of the selection process for awards.

Purpose of Meetings: To provide advice and recommendations concerning proposals submitted to NSF for financial support.

Reason for Closing: The proposals being reviewed include information of a proprietary or confidential nature, including technical information; financial data, such as salaries; and personal information concerning individuals associated with the proposals.

These matters are exempt under 5 U.S.C. 552b(c), (4) and (6) of the Government in the Sunshine Act.

Dated: October 16, 2000.
Karen J. York,
Committee Management Officer.

[FR Doc. 00-26983 Filed 10-19-00; 8:45 am]

BILLING CODE 7555-01-M